FEDERAL ELECTION COMMISSION

[NOTICE 2021-10]

Filing Dates for the Texas Special Election in the 6th Congressional District Special Election

AGENCY: Federal Election Commission.

ACTION: Notice of filing dates for special election.

SUMMARY: Texas has scheduled a Special Runoff Election on July 27, 2021, to fill its U.S. House of Representatives seat in the 6th Congressional District of the late Representative Ron Wright. On May 1, 2021, a Special General Election was held, with no candidate achieving a majority vote. Under Texas law, a Special Runoff Election will now be held between the top two vote-getters. Committees participating in the Texas Special Runoff Election are required to file pre- and post-runoff election reports.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Texas Special Runoff Election shall file a 12-day Pre-Runoff Report on July 15, 2021, and a 30-day Post-Runoff Report on August 26, 2021. (See charts below for the closing date for each report.)

Note that these reports are in addition to the campaign committee's regular quarterly filings. (See charts below for the closing date for each report).

Unauthorized Committees (PACs and Party Committees)

Political committees not filing monthly in 2021 are subject to special election reporting if they make previously undisclosed contributions or expenditures in connection with the Texas Special Runoff Election by the close of books for the applicable report(s). (See charts below for the closing date for each report.)

Committees filing monthly that make contributions or expenditures in connection with the Texas Special Runoff Election will continue to file according to the monthly reporting schedule.

Additional disclosure information for the Texas special elections may be found on the FEC website at https://www.fec.gov/help-candidates-and-committees/dates-and-deadlines/.

Disclosure of Lobbyist Bundling Activity

Principal campaign committees, party committees and leadership PACs that are otherwise required to file reports in connection with the special election must simultaneously file FEC Form 3L if they receive two or more bundled contributions from lobbyists/registrants or lobbyist/registrant PACs that aggregate in excess of $19,300 during the special election reporting period. (See charts below for closing date of each period.) 11 CFR 104.22(a)(5)(v), (b), 110.17(e)(2), (f).

Calendar of Reporting Dates for Texas Special Election
Report | Close of books ¹ | Reg./cert. & overnight mailing deadline | Filing deadline
Campaign Committees Involved in the Special Runoff (07/27/2021) Must File
July Quarterly |  | —WAIVED— |
Pre-Runoff | 07/07/2021 | 07/12/2021 | 07/15/2021
Post-Runoff | 08/16/2021 | 08/26/2021 | 08/26/2021
October Quarterly | 09/30/2021 | 10/15/2021 | 10/15/2021
PACS and Party Committees Not Filing Monthly Involved in the Special Runoff (07/27/2021) Must File
Pre-Runoff & Mid-Year ² | 07/07/2021 | 07/12/2021 | 07/15/2021
Post-Runoff | 08/16/2021 | 08/26/2021 | 08/26/2021
Year-End | 12/31/2021 | 01/31/2022 | 01/31/2022
¹ The reporting period always begins the day after the closing date of the last report filed. If the committee is new and has not previously filed a report, the first report must cover all activity that occurred before the committee registered as a political committee up through the close of books for the first report due.
² Committees should file a consolidated Pre-Runoff & Mid-Year Report by the filing deadline of the Pre-Runoff Report.

Dated: May 18, 2021.
On behalf of the Commission,
Shana M. Broussard,
Chair, Federal Election Commission.

[FR Doc. 2021-10777 Filed 5-20-21; 8:45 am]

BILLING CODE 6715-01-P